DEPARTMENT OF ENERGY

Federal Energy Regulatory Commission

[Docket Nos. CP17-20-000, CP17-21-000, CP17-21-001, CP18-7-000]

Notice of Availability of the Final Environmental Impact Statement for the Proposed Port Arthur Liquefaction Project, Texas Connector Project, and Louisiana Connector Project: Port Arthur LNG, LLC, PALNG Common Facilities Company LLC, and Port Arthur Pipeline, LLC

The staff of the Federal Energy Regulatory Commission (FERC or Commission) has prepared a final environmental impact statement (EIS) for the Port Arthur Liquefaction Project proposed by Port Arthur LNG, LLC and PALNG Common Facilities Company LLC (collectively referred to as PALNG), and the Texas Connector Project and Louisiana Connector Project proposed by Port Arthur Pipeline, LLC (PAPL) in the above-referenced dockets. PALNG requests authorization pursuant to section 3(a) of the Natural Gas Act (NGA) to construct and operate liquefied natural gas (LNG) export facilities in Jefferson County, Texas, and PAPL requests a Certificate of Public Convenience and Necessity pursuant to section 7(c) of the NGA to construct, operate, and maintain certain natural gas pipeline facilities in Jefferson and Orange Counties, Texas and Cameron, Calcasieu, Beauregard, Allen, Evangeline, and St. Landry Parishes, Louisiana. Together, these proposed facilities are referred to as the Projects.

The final EIS assesses the potential environmental effects of the construction and operation of the Projects in accordance with the requirements of the National Environmental Policy Act (NEPA). The FERC staff concludes that approval of the proposed Projects, with the mitigation measures recommended in the EIS, would have some adverse environmental impact; however, these impacts would be avoided or reduced to less-than-significant levels.

The U.S. Army Corps of Engineers, U.S. Coast Guard, U.S. Department of Energy, U.S. Environmental Protection Agency, and the U.S. Department of Transportation's Pipeline and Hazardous Materials Safety Administration participated as cooperating agencies in the preparation of the EIS. Cooperating agencies have jurisdiction by law or special expertise with respect to resources potentially affected by the proposal and participate in the NEPA analysis. Although the cooperating agencies provided input to the conclusions and recommendations presented in the final EIS, the agencies will present their own conclusions and recommendations in their respective Records of Decision for the Projects.

The final EIS addresses the potential environmental effects of the construction and operation of the following proposed facilities:

• Two liquefaction trains, each with a capacity of 6.73 million tons per annum of LNG for export;

• three LNG storage tanks, each with a capacity of 160,000 cubic meters;

• a refrigerant storage area and truck unloading facilities;

• a condensate storage area and truck loading facilities;

• a new marine slip with two LNG vessel berths, an LNG vessel and support vessel maneuvering area, and an LNG transfer system;

• a materials off-loading facility and Pioneer Dock;

• approximately 38.9 miles of 42-inch-diameter pipeline to bring feed gas from interconnections with Kinder Morgan Louisiana Pipeline LLC, Natural Gas Pipeline Company of America, Houston Pipeline Company LP, Texas Eastern Transmission, LP (TETCO), Florida Gas Transmission Company, LLC, and Golden Triangle Storage, Inc./Centana Intrastate Pipeline, LLC to the terminal site;

• approximately 131.3 miles of 42-inch-diameter pipeline to bring feed gas from interconnections with Centana Interstate Pipeline, LP, TETCO, Tennessee Gas Pipeline Company, Market Hub Partners—Egan, Pine Prairie Energy Center, Texas Gas Transmission, LLC, ANR Pipeline Company, and Columbia Gulf Transmission, LLC to the terminal site;

• three compressor stations;

• meter stations at the pipeline interconnects; and

• other associated utilities, systems, and facilities (mainline valves, pig launchers/receivers, contractor yards, access roads, etc.).

The Commission mailed a copy of the Notice of Availability to federal, state, and local government representatives and agencies; elected officials; environmental and public interest groups; Native American tribes; potentially affected landowners and other interested individuals and groups; and newspapers and libraries in the project area. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the Docket Number field, excluding the last three digits (i.e., CP17-20, CP17-21, or CP18-7). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: January 31, 2019.
Nathaniel J. Davis, Sr.,
Deputy Secretary.

[FR Doc. 2019-01190 Filed 2-5-19; 8:45 am]

BILLING CODE 6717-01-P